DEPARTMENT OF EDUCATION

National Mathematics Advisory Panel

AGENCY: National Mathematics Advisory Panel, U.S. Department of Education.

ACTION: Notice of Open Meeting & Public Hearing.

SUMMARY: This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend.

DATES: Wednesday, September 13, 2006, and Thursday, September 14, 2006.

TIMES: Meetings on September 13, 2006: 9 a.m.-12 noon; and September 14, 2006: 9-11 a.m.

ADDRESSES: All meetings and the open session for public comment will be held at the Broad Institute, Auditorium, First Floor, 7 Cambridge Center (415 Main Street), Cambridge, MA 02142.

FOR FURTHER INFORMATION CONTACT: Tyrrell Flawn, Executive Director, National Mathematics Advisory Panel, 400 Maryland Avenue, SW., Washington, DC 20202; telephone: (202) 260-8354.

SUPPLEMENTARY INFORMATION: The Panel was established by Executive Order 13398. The purpose of this Panel is to foster greater knowledge of and improved performance in mathematics among American students, in order to keep America competitive, support American talent and creativity, encourage innovation throughout the American economy, and help State, local, territorial, and tribal governments give the nation's children and youth the education they need to succeed.

The September 13 meeting will include testimony from the National Council of Teachers of Mathematics, the National Science Foundation, the American Competitiveness Council, and major mathematics textbook publishers. Individuals interested in attending the meeting are advised to register in advance to ensure space availability. Please contact Jennifer Graban at (202) 260-1491 or by e-mail at Jennifer. Graban@ed.gov by Friday, September 8, 2006.

The September 14 meeting will begin with an Open Public Session from 9 to 10 a.m. At that time, the public is invited to comment on elements of the Executive Order and the Panel's work. Immediately following, from 10 to 11 a.m., the four task groups—Conceptual Knowledge and Skills, Learning Processes, Instructional Practices, and Teachers—will report on their progress.

If you are interested in giving testimony during the public session on September 14th, please contact Jennifer Graban at (202) 260-1491 or Jennifer.Graban@ed.gov by Friday, September 8, 2006, to reserve time on the agenda. Please include your name, the organization you represent, if appropriate, and a brief description of the issue you would like to present. Presenters will be allowed five minutes to make their comments. Presenters are requested to submit three written copies and an electronic file (CD or diskette) of their comments at the meeting, which should be labeled with their name and contact information. Individuals interested in solely attending the meeting are advised to register in advance to ensure space availability.

Given the expected number of individuals interested in providing comments at the meeting, reservations for presenting comments should be made as soon as possible. Reservations will be processed on a first-come, first-served basis. Persons who are unable to obtain reservations to speak during the meeting are encouraged to submit written comments. Written comments will be accepted at the meeting site or via e-mail at Jennifer.Graban@ed.gov. If you will be emailing written comments, please do so by Friday, September 1, 2006.

The Panel will submit to the President, through the Secretary, a preliminary report not later than January 31, 2007, and a final report not later than February 28, 2008. Both reports shall, at a minimum, contain recommendations, based on the best available scientific evidence.

The meeting site is accessible to individuals with disabilities. Individuals who will need accommodations in order to attend the meeting, such as interpreting services, assistive listening devices, or materials in alternative format, should notify Jennifer Graban at (202) 260-1491 or Jennifer.Graban@ed.gov no later than September 8, 2006. We will attempt to meet requests for accommodations after this date, but cannot guarantee their availability.

Records are kept of all Panel proceedings and are available for public inspection at the staff office for the Panel, from the hours of 9 a.m. to 5 p.m.

Dated: August 9, 2006.
Margaret Spellings,
Secretary, U.S. Department of Education.

[FR Doc. 06-6900 Filed 8-11-06; 8:45 am]

BILLING CODE 4000-01-M